DEPARTMENT OF COMMERCE

National Oceanic and Atmospheric Administration

50 CFR Part 622

[Docket No. 040205043-4043-01]

RIN 0648-XG27

Fisheries of the Caribbean, Gulf of Mexico, and South Atlantic; Reef Fish Fishery of the Gulf of Mexico; Closure of the 2008 Deepwater Grouper Commercial Fishery

AGENCY: National Marine Fisheries Service (NMFS), National Oceanic and Atmospheric Administration (NOAA), Commerce.

ACTION: Temporary rule; closure.

SUMMARY: NMFS closes the commercial fishery for deepwater grouper (misty grouper, snowy grouper, yellowedge grouper, warsaw grouper, and speckled hind) in the exclusive economic zone (EEZ) of the Gulf of Mexico. NMFS has determined that the deepwater grouper quota for the commercial fishery will have been reached by May 10, 2008. This closure is necessary to protect the deepwater grouper resource.

DATES: Closure is effective 12:01 a.m., local time, May 10, 2008, until 12:01 a.m., local time, on January 1, 2009.

FOR FURTHER INFORMATION CONTACT: Britni Tokotch, telephone 727-824-5305, fax 727-824-5308, e-mail Britni.Tokotch@noaa.gov.

SUPPLEMENTARY INFORMATION: The reef fish fishery of the Gulf of Mexico is managed under the Fishery Management Plan for the Reef Fish Resources of the Gulf of Mexico (FMP). The FMP was prepared by the Gulf of Mexico Fishery Management Council and is implemented under the authority of the Magnuson-Stevens Fishery Conservation and Management Act (Magnuson-Stevens Act) by regulations at 50 CFR part 622. Those regulations set the commercial quota for deepwater grouper in the Gulf of Mexico at 1.02 million lb (463,636 kg) for the current fishing year, January 1 through December 31, 2008.

Under 50 CFR 622.43(a), NMFS is required to close the commercial fishery for a species or species group when the quota for that species or species group is reached, or is projected to be reached, by filing a notification to that effect with the Office of the Federal Register. Based on current statistics, NMFS has determined that the available commercial quota of 1.02 million lb (463,636 kg) for deepwater grouper will be reached on or before May 10, 2008. Accordingly, NMFS is closing the commercial deepwater grouper fishery in the Gulf of Mexico EEZ from 12:01 a.m., local time, on May 10, 2008, until 12:01 a.m., local time, on January 1, 2009. The operator of a vessel with a valid commercial vessel permit for Gulf reef fish having deepwater grouper aboard must have landed and bartered, traded, or sold such deepwater grouper prior to 12:01 a.m., local time, May 10, 2008.

During the closure, the bag and possession limits specified in 50 CFR 622.39(b) apply to all harvest or possession of deepwater grouper in or from the Gulf of Mexico EEZ, and the sale or purchase of deepwater grouper taken from the EEZ is prohibited. Vessels with commercial quantities of reef fish on board are prohibited from retaining a recreational bag limit. The prohibition on sale or purchase does not apply to sale or purchase of deepwater grouper that were harvested, landed ashore, and sold prior to 12:01 a.m., local time, May 10, 2008, and were held in cold storage by a dealer or processor.

Classification

This action responds to the best available information recently obtained from the fishery. The Assistant Administrator for Fisheries, NOAA, (AA), finds good cause to waive the requirement to provide prior notice and opportunity for public comment pursuant to the authority set forth at 5 U.S.C. 553(b)(B) as such prior notice and opportunity for public comment is unnecessary and contrary to the public interest. Such procedures would be unnecessary because the rule itself has already been subject to notice and comment, and all that remains is to notify the public of the closure. Allowing prior notice and opportunity for public comment is contrary to the public interest because of the need to immediately implement this action to protect the fishery since the capacity of the fishing fleet allows for rapid harvest of the quota. Prior notice and opportunity for public comment would require time and would potentially result in a harvest well in excess of the established quota.

For the aforementioned reasons, the AA also finds good cause to waive the 30-day delay in the effectiveness of this action under 5 U.S.C. 553(d)(3).

This action is taken under 50 CFR 622.43(a) and is exempt from review under Executive Order 12866.

Authority: 16 U.S.C. 1801 et seq.

Dated: April 30, 2008.
Emily H. Menashes,
Acting Director, Office of Sustainable Fisheries, National Marine Fisheries Service.

[FR Doc. E8-9886 Filed 5-5-08; 8:45 am]

BILLING CODE 3510-22-S